ENVIRONMENTAL PROTECTION AGENCY

40 CFR Part 141

[EPA-HQ-OW-2009-0345; FRL-8930-8]

Expedited Approval of Alternative Test Procedures for the Analysis of Contaminants Under the Safe Drinking Water Act; Analysis and Sampling Procedures

AGENCY: Environmental Protection Agency (EPA).

ACTION: Final rule.

SUMMARY: This action announces the Environmental Protection Agency's (EPA's) approval of alternative testing methods for use in measuring the levels of contaminants in drinking water and determining compliance with national primary drinking water regulations. The Safe Drinking Water Act (SDWA) authorizes EPA to approve the use of alternative testing methods through publication in the Federal Register. EPA is using this streamlined authority to make six additional methods available for analyzing drinking water samples required by regulation. This expedited approach provides public water systems, laboratories, and primacy agencies with more timely access to new measurement techniques and greater flexibility in the selection of analytical methods, thereby reducing monitoring costs while maintaining public health protection.

DATES: This action is effective August 3, 2009.

FOR FURTHER INFORMATION CONTACT: Safe Drinking Water Hotline (800) 426-4791 or Patricia Snyder Fair, Technical Support Center, Office of Ground Water and Drinking Water (MS 140), Environmental Protection Agency, 26 West Martin Luther King Drive, Cincinnati, OH 45268; telephone number: (513) 569-7937; e-mail address: fair.pat@epa.gov.

SUPPLEMENTARY INFORMATION:

I. General Information

A. Does This Action Apply to Me?

Public water systems are the regulated entities required to measure contaminants in drinking water samples. In addition, EPA Regions as well as States and Tribal governments with authority to administer the regulatory program for public water systems under SDWA may also measure contaminants in water samples. When EPA sets a monitoring requirement in its national primary drinking water regulations for a given contaminant, the Agency also establishes in the regulations standardized test procedures for analysis of the contaminant. This action makes alternative testing methods available for particular drinking water contaminants beyond the testing methods currently established in the regulations. EPA is providing public water systems required to test water samples with a choice of using either a test procedure already established in the existing regulations or an alternative test procedure that has been approved in this action. Categories and entities that may ultimately be affected by this action include:

Category | Examples of potentially regulated entities | NAICS ¹
State, Local, & Tribal Governments | States, local and tribal governments that analyze water samples on behalf of public water systems required to conduct such analysis; States, local and tribal governments that themselves operate community and non-transient non-community water systems required to monitor. | 924110
Industry | Private operators of community and non-transient non-community water systems required to monitor. | 221310
Municipalities | Municipal operators of community and non-transient non-community water systems required to monitor. | 924110
¹ North American Industry Classification System.

This table is not exhaustive, but rather provides a guide for readers regarding entities likely to be affected by this action. This table lists the types of entities that EPA is now aware could potentially be affected by this action. Other types of entities not listed in the table could also be impacted. To determine whether your facility is affected by this action, you should carefully examine the applicability language at 40 CFR 141.2 (definition of public water system). If you have questions regarding the applicability of this action to a particular entity, consult the person listed in the preceding FOR FURTHER INFORMATION CONTACT section.

B. How Can I Get Copies of This Document and Other Related Information?

1. Docket. EPA established a docket for this action under Docket ID No. EPA-HQ-OW-2009-0345. Publicly available docket materials are available either electronically through www.regulations.gov or in hard copy at the Water Docket in the EPA Docket Center, (EPA/DC) EPA West, Room 3334, 1301 Constitution Ave., NW., Washington, DC. Copyrighted materials are available only in hard copy. The EPA Docket Center Public Reading Room is open from 8:30 a.m. to 4:30 p.m., Monday through Friday, excluding legal holidays. The telephone number for the Public Reading Room is (202) 566-1744, and the telephone number for the Water Docket is (202) 566-2426.

2. Electronic Access. You may access this Federal Register document electronically through the EPA Internet under the “Federal Register” listings at http://www.epa.gov/fedrgstr/.

Abbreviations and Acronyms Used in This Action

CFR: Code of Federal Regulations

DBCP: Dibromochloropropane

EDB: Ethylene Dibromide

EPA: Environmental Protection Agency

GC: Gas Chromatography

LED: Light-Emitting Diode

MS: Mass Spectrometry

NEMI: National Environmental Methods Index

nm: Nanometers

SDWA: Safe Drinking Water Act

Table of Contents

I. General Information

A. Does This Action Apply to Me?

B. How Can I Get Copies of This Document and Other Related Information?

II. Background

A. What Is the Purpose of This Action?

B. What Is the Basis for This Action?

III. Summary of Approvals

A. Methods Developed by EPA

B. Methods Developed by Vendors

IV. Statutory and Executive Order Reviews

V. References

II. Background

A. What Is the Purpose of This Action?

In this action, EPA is approving six analytical methods for determining contaminant concentrations in samples collected under SDWA. Regulated parties required to sample and monitor may use either the testing methods already established in existing regulations or the alternative testing methods being approved in this action. The new methods are listed in Appendix A to Subpart C in 40 CFR 141 and on EPA's drinking water methods Web site at http://www.epa.gov/safewater/methods/analyticalmethods_expedited.html.

B. What Is the Basis for This Action?

When EPA determines an alternative analytical method is “equally effective” (i.e., as effective as a method that has already been promulgated in the regulations), SDWA allows EPA to approve the use of the alternative method through publication in the Federal Register. See Section 1401(1) of SDWA. EPA is using this streamlined approval authority to make six additional methods available for determining contaminant concentrations in samples collected under SDWA. EPA has determined that, for each contaminant or group of contaminants listed in Section III, the additional testing methods being approved in this action are equally as effective as one or more of the testing methods already established in the regulations for those contaminants. Section 1401(1) states that the newly approved methods “shall be treated as an alternative for public water systems to the quality control and testing procedures listed in the regulation.” Accordingly, this action makes these additional (and optional) six analytical methods legally available for meeting EPA's monitoring requirements.

This action does not add regulatory language, but does, for informational purposes, update an appendix to the regulations at 40 CFR part 141 that lists all methods approved under Section 1401(1) of SDWA. Accordingly, while this action is not a rule, it is updating CFR text and therefore is being published in the “Final Rules” section of this Federal Register.

EPA described this expedited methods approval process in an April 10, 2007, Federal Register notice (72 FR 17902) (USEPA 2007) and announced its intent to begin using the process. EPA published the first set of approvals in a June 3, 2008, Federal Register notice (73 FR 31616) (USEPA 2008) and added Appendix A to 40 CFR Part 141, Subpart C. This action adds six additional methods to Appendix A to Subpart C.

III. Summary of Approvals

EPA is approving six methods that are equally effective relative to methods previously promulgated in the regulations. By means of this notice, these six methods are added to Appendix A of 40 CFR Part 141, Subpart C. For convenience of the reader, the revised Appendix A in its entirety is shown below. However, the only change made to Appendix A through this action is the inclusion of these six additional methods as described in this preamble.

A. Methods Developed by EPA

EPA Method 524.3, Version 1.0. This is a gas chromatography/mass spectrometry (GC/MS) method for the determination of purgeable organic compounds in finished drinking waters. The method analytes are purged from the water sample using helium and trapped on a sorbent material. After purging, the trap is heated and back flushed with helium to transfer the analytes to a capillary GC column. Compounds eluting from the GC are directed into a mass spectrometer for mass analysis and detection. The analytes are identified by comparing the acquired mass spectra and retention times to reference spectra and retention times for calibration standards acquired under identical GC/MS conditions. The concentration of each target analyte is calculated using the internal standard technique and response curves obtained via procedural calibration. The expansion of the method to include the option of selective ion monitoring makes this method sufficiently sensitive to measure dibromochloropropane (DBCP) and ethylene dibromide (EDB) at the concentrations required for drinking water compliance monitoring.

EPA Method 524.3 is an updated version of EPA Method 524.2, Revision 4.1 (USEPA 1995a), which is currently approved for analyses of compliance samples for 21 volatile organic contaminants and total trihalomethanes. The method development work is described in the method research summary (Zaffiro et al. 2009). The advantages of the new method include:

• Use of maleic acid, a common food preservative, to preserve samples, eliminating the requirement to ship a hazardous reagent (hydrochloric acid) to the field;

• Incorporation of features that allow users to take advantage of modern instrumentation to improve speed and data quality;

• Increased flexibility in selection of method operating parameters; and

• Addition of Method 524.3 as an approved method for DBCP and EDB.

Approved methods for volatile organic contaminants and total trihalomethanes are listed at 40 CFR 141.24(e). EPA Methods 502.2; Revision 2.1 (USEPA 1995b) and 524.2; Revision 4.1 (USEPA 1995a) are approved for benzene; carbon tetrachloride; chlorobenzene; 1,2-dichlorobenzene; 1,4-dichlorobenzene; 1,2-dichloroethane; cis-dichloroethylene; trans-dichloroethylene; dichloromethane; 1,2-dichloropropane; ethylbenzene; styrene; tetrachloroethylene; 1,1,1-trichloroethane; trichloroethylene; toluene; 1,2,4-trichlorobenzene; 1,1-dichloroethylene; 1,1,2-trichlorethane; vinyl chloride; xylenes (total—measured as sum of o-xylene; m-xylene and p-xylene); and total trihalomethanes (sum of chloroform; bromodichloromethane; dibromochloromethane; and bromoform). EPA Method 551.1 (USEPA 1995c) is approved for carbon tetrachloride; tetrachloroethylene; 1,1,1-trichloroethane; trichloroethylene; EDB; DBCP; and total trihalomethanes. EPA Method 504.1, Revision 1.1 (USEPA 1995d) is approved for EDB and DBCP. Approved methods for total trihalomethanes are also listed at 40 CFR 141.131(b)(1). For each of the 24 contaminants, the performance characteristics of EPA Method 524.3 were compared to the characteristics of each of the methods currently listed in the regulations as approved for that contaminant (Munch 2009). EPA has determined that, for each of the 24 contaminants, EPA Method 524.3 is equally as effective for measuring the contaminant as the methods currently listed in the regulations as approved for that contaminant. The basis for this determination is discussed in Munch 2009. EPA is therefore approving use of Method 524.3 for the above named 24 contaminants when analyzing drinking water compliance samples.

EPA Method 524.3 Version 1.0 (USEPA 2009) can be accessed and downloaded directly on-line at http://epa.gov/safewater/methods/analyticalmethods_ogwdw.html.

B. Methods Developed by Vendors

1. Mitchell Method M5271. Mitchell Method M5271 (Mitchell 2009a) uses laser nephelometry to measure turbidity in drinking water. The method is based on a comparison of the intensity of light scattered by the sample under defined conditions with the intensity of light scattered by a standard reference suspension. Readings are made using an on-line laser nephelometer with the following design criteria:

• Laser light source is monochromatic operated at a nominal wavelength of 650 ± 30nm;

• Incident radiation and any convergence does not exceed ± 1.5 degrees in the measurement area;

• Distance traversed by incident light and scattered light does not exceed 10cm;

• Detector/light receiver is centered at 90 ± 1.5 degrees to the incident light path and the light cone does not exceed ± 30 degrees from 90 degrees; and

• Instrument incorporates a bubble trap and anti-fog windows. Sensor is horizontal and the windows are vertical. Windows are immersed in the sample stream.

Four approved methods for turbidity are listed at 40 CFR 141.74(a)(1). The performance characteristics of Mitchell Method M5271 were compared to the performance characteristics of approved EPA Method 180.1 (USEPA 1993a). The validation study report (Mitchell 2008a) summarizes the results obtained from the turbidimeters placed in series at three different public water systems. One water system used ground water and the other two plants used surface water sources. Measurements included at least one filter backwash at each of the surface water plants.

EPA has determined that the Mitchell Method M5271 is equally effective relative to EPA Method 180.1 that is already promulgated in the regulations at 40 CFR 141.74(a)(1). The basis for this determination is discussed in Wendelken 2009a. Therefore, EPA is approving the Mitchell Method M5271 for determining turbidity in drinking water. A copy of the method can be downloaded from the National Environmental Methods Index (NEMI) at http://www.nemi.gov or obtained by contacting Leck Mitchell, PhD, PE, 656 Independence Valley Dr., Grand Junction, CO 81507.

2. Mitchell Method M5331. Mitchell Method M5331 (Mitchell 2009b) uses light-emitting diode (LED) nephelometry to measure turbidity in drinking water. The method is based on a comparison of the intensity of light scattered by the sample under defined conditions with the intensity of light scattered by a standard reference suspension. Readings are made using an on-line LED nephelometer with the following design criteria:

• LED light source is monochromatic operated at a nominal wavelength of 525 ± 15nm;

• Incident radiation and any convergence does not exceed ± 1.5 degrees in the measurement area;

• Distance traversed by incident light and scattered light does not exceed 10cm;

• Detector/light receiver is centered at 90 ± 1.5 degrees to the incident light path and the light cone does not exceed ± 30 degrees from 90 degrees; and

• Instrument incorporates a bubble trap and anti-fog windows. Sensor is horizontal and the windows are vertical. Windows are immersed in the sample stream.

Four approved methods for turbidity are listed at 40 CFR 141.74(a)(1). The performance characteristics of Mitchell Method M5331 were compared to the performance characteristics of approved EPA Method 180.1 (USEPA 1993a). The validation study report (Mitchell 2008b) summarizes the results obtained from the turbidimeters placed in series at three different public water systems. One water system used ground water and the other two plants used surface water sources. Measurements included at least one filter backwash at each of the surface water plants.

EPA has determined that the Mitchell Method M5331 is equally effective relative to EPA Method 180.1 that is already promulgated in the regulations at 40 CFR 141.74(a)(1). The basis for this determination is discussed in Wendelken 2009b. Therefore, EPA is approving it for determining turbidity in drinking water. A copy of the method can be downloaded from NEMI at http://www.nemi.gov or obtained from Leck Mitchell, PhD, PE, 656 Independence Valley Dr., Grand Junction, CO 81507.

3. Orion Method AQ4500. Thermo Scientific's Orion Method AQ4500 (Thermo Scientific 2009) uses LED nephelometry to measure turbidity in drinking water. The method is based on a comparison of the intensity of light scattered by the sample at 90 degrees to the beam path with the intensity of light scattered by a standard reference suspension. Readings are made using a portable LED nephelometer with the following design criteria:

• White LED light source emits broadband light having peak intensities in the 400nm to 600nm range;

• Distance traversed by incident light and scattered light does not exceed 10cm;

• Detector/light receiver is centered at 90 degrees to the incident light path and the light cone does not exceed ± 30 degrees from 90 degrees. The detector has spectral peak response between 400nm and 600nm;

• Pulsed light allows for synchronous detection, a technique by which ambient stray light leakage, as well as other electronic induced errors, are effectively cancelled out; and

• Color compensation is achieved using a dual-beam system with two photo detectors.

Four approved methods for turbidity are listed at 40 CFR 141.74(a)(1). The performance characteristics of Thermo Scientific's Orion Method AQ4500 were compared to the performance characteristics of EPA Method 180.1 (USEPA 1993a) listed at 40 CFR 141.74(a)(1) for measurement of turbidity. Two rounds of testing were conducted (Wendelken 2009c). The first was an ASTM round robin study comparing results from analyses of 28 samples of various types using turbidimeters with tungsten filament light sources as specified in EPA Method 180.1 and white LEDs as specified in Thermo Scientific Orion Method AQ4500. A second study involved demonstration of performance at turbidities below 2 nephelometric turbidity units.

EPA has determined that Thermo Scientific's Orion Method AQ4500 is equally effective relative to EPA Method 180.1, which is already promulgated in the regulations at 40 CFR 141.74(a)(1). The basis for this determination is discussed in Wendelken 2009c. Therefore, EPA is approving Method AQ4500 for the measurement of turbidity in drinking water. A copy of the method can be downloaded from NEMI at http://www.nemi.gov or obtained from Thermo Scientific, 166 Cummings Center, Beverly, MA 01915, Phone: (800) 225-1480, www.thermo.com.

4. Systea Easy (1-Reagent). Systea Scientific, LLC's Systea Easy (1-Reagent) Nitrate Method uses automated discreet analysis by spectrophotometry to determine concentrations of nitrate and nitrite combined or individually in drinking water. The method involves the following steps:

• Reduction of nitrate in a sample to nitrite using a non-hazardous proprietary reagent;

• Diazotizing the nitrite originally in the sample plus the reduced nitrate with sulfanilamide followed by coupling with N-(1-napthyl)ethylenediamine dihydrochloride under acidic conditions to form a highly colored azo dye;

• Colorimetric determination in which the absorbance of color at 546nm is directly proportional to the concentration of the nitrite plus the reduced nitrate in the sample;

• Measurement of nitrite individually by analysis of the sample while eliminating the reduction step; and

• Subtraction of the nitrite value from that of the combined nitrate plus nitrite value to determine nitrate individually.

Approved methods for nitrate and nitrite are listed at 40 CFR 141.23(k)(1). An inter-laboratory study (Systea Scientific, LLC. 2008) was conducted to compare the performance characteristics of the Systea Easy (1-Reagent) Nitrate Method to the characteristics of the EPA Method 353.2 (USEPA 1993b) and Standard Method 4500-NO3− F-00 (APHA 1997), which are listed at 40 CFR 141.23(k)(1) for nitrate and nitrite. Ten laboratories analyzed a variety of sample matrices using approved methods. The samples were also analyzed using the Systea Easy (1-Reagent) Nitrate Method.

EPA has determined that the Systea Easy (1-Reagent) Nitrate Method is equally effective relative to EPA Method 353.2 and Standard Method 4500-NO3− F-00, which are already promulgated in the regulations. The basis for this determination is discussed in Wendelken 2009d. The method is a “green” alternative to other approved methods, which use cadmium, a known carcinogen, for the reduction of nitrate to nitrite. EPA is approving this method for determining nitrate and nitrite concentrations in drinking water to comply with 40 CFR 141.23.

Systea Easy (1-Reagent) Nitrate Method (Systea Scientific, LLC. 2009) can be downloaded from NEMI at http://www.nemi.gov or obtained from Systea Scientific, LLC, 900 Jorie Blvd., Suite 35, Oak Brook, IL 60523, Phone: (630) 645-0600.

5. Method ME355.01. “Determination of Cyanide in Drinking Water by GC/MS Headspace” (Eaton 2009) uses direct headspace injection after acidification followed by Gas Chromatography/Mass Spectrometry (GC/MS) to determine the concentration of cyanide, as free cyanide, in drinking water. The method involves the following steps:

• Acidification of the sample;

• Heating the sample to 60 degrees Celsius with agitation;

• Direct injection of 1 milliliter of headspace onto the nitrogen cooled cryotrap; and

• Analysis using temperature programmed GC/MS.

The performance characteristics of Method ME355.01 were determined in three laboratories by replicate analyses of fortified samples (Wendelken 2009e). The results were compared to the characteristics of EPA Method 335.4 (USEPA 1993c) and Standard Method 4500-CN− F-99 (APHA 1999) listed at 40 CFR 141.23(k)(1) for cyanide. EPA has determined that Method ME355.01 is equally effective relative to each of these two methods. The basis for this determination is discussed in Wendelken 2009e. Therefore, EPA is approving this method for determining cyanide concentrations in drinking water to comply with 40 CFR 141.23.

Method ME335.01 can be downloaded from NEMI at http://www.nemi.gov or obtained from James Eaton, PhD, H & E Testing Laboratory, 221 State Street, Augusta, ME 04333, Phone: (207) 187-2727.

IV. Statutory and Executive Order Reviews

As noted above, under the terms of SDWA Section 1401(1), this streamlined method approval action is not a rule. Accordingly, the Congressional Review Act, 5 U.S.C. 801 et seq., as added by the Small Business Regulatory Enforcement Fairness Act of 1996, does not apply because this action is not a rule for purposes of 5 U.S.C. 804(3). Similarly, this action is not subject to the Regulatory Flexibility Act because it is not subject to notice and comment requirements under the Administrative Procedure Act or any other statute. In addition, because this approval action is not a rule but simply makes alternative (optional) testing methods available for monitoring under SDWA, EPA has concluded that other statutes and executive orders generally applicable to rulemaking do not apply to this approval action.

V. References

American Public Health Association (APHA), 2000. Standard Method 4500-NO3− F-00. Automated Cadmium Reduction Method. Approved by Standard Methods Committee 2000. Standard Methods Online. (Available at http://www.standardmethods.org.)

American Public Health Association (APHA), 1999. Standard Method 4500-CN− F-99. Cyanide-Selective Electrode Method. Approved by Standard Methods Committee 1999. Standard Methods Online. (Available at http://www.standardmethods.org.)

Eaton, J. 2009. Method ME355.01, Revision 1.0. Determination of Cyanide in Drinking Water by GC/MS Headspace. May 26, 2009. H & E Testing Laboratory, 221 State Street, Augusta, ME 04333. (Available at http://www.nemi.gov.)

Mitchell, L. and Mitchell, P., 2008a. Mitchell ATP Submission for Changes in Method 180.1 Using Laser Determination of Turbidity by Nephelometry, Mitchell Method M5271, Validation Study Report, Revision 1.0, July 31, 2008. 656 Independence Valley Dr., Grand Junction, CO 81507.

Mitchell, L. and Mitchell, P., 2008b. Mitchell ATP Submission for Changes in Method 180.1 Using LED Determination of Turbidity by Nephelometry, Mitchell Method M5331, Validation Study Report, Revision 1.0, July 31, 2008. 656 Independence Valley Dr., Grand Junction, CO 81507.

Mitchell, L. and Mitchell, P., 2009a. Mitchell Method M5271, Revision 1.1. Determination of Turbidity by Laser Nephelometry, March 5, 2009. Leck Mitchell, PhD, PE, 656 Independence Valley Dr., Grand Junction, CO 81507. (Available at http://www.nemi.gov.)

Mitchell, L. and Mitchell, P., 2009b. Mitchell Method M5331, Revision 1.1. Determination of Turbidity by LED Nephelometry, March 5, 2009. Leck Mitchell, PhD, PE, 656 Independence Valley Dr., Grand Junction, CO 81507. (Available at http://www.nemi.gov.)

Munch, D., 2009. Memo to the record describing basis for expedited approval of EPA Method 524.3. May 22, 2009.

Systea Scientific, LLC., 2008. Validation Study Report for New Method Approval of Nitrate Analysis in Wastewater and Drinking Water Utilizing Systea Scientific, LLC Non-Hazardous Proprietary Reagent R1, Systea Easy (1-Reagent) Nitrate 0.050-10 mg/L. September 15, 2008. 900 Jorie Blvd., Suite 35, Oak Brook, IL 60523.

Systea Scientific, LLC., 2009. Systea Easy (1-Reagent) Nitrate Method, February 4, 2009. 900 Jorie Blvd., Suite 35, Oak Brook, IL 60523. (Available at http://www.nemi.gov.)

Thermo Scientific, 2009. Orion Method AQ4500, Revision 1.0. Determination of Turbidity by LED Nephelometry, May 8, 2009. 166 Cummings Center, Beverly, MA 01915. (Available at http://www.nemi.gov.)

USEPA. 1993a. EPA Method 180.1, Revision 2.0, “Determination of Turbidity by Nephelometry” in Methods for the Determination of Inorganic Substances in Environmental Samples, EPA/600/R-93/100. (Available at http://www.nemi.gov.)

USEPA. 1993b. EPA Method 353.2, Revision 2.0, “Determination of Nitrate-Nitrite Nitrogen by Automated Colorimetry” in Methods for the Determination of Inorganic Substances in Environmental Samples, EPA/600/R-93/100. (Available at http://www.nemi.gov.)

USEPA. 1993c. EPA Method 335.4, Revision 1.0, “Determination of Total Cyanide by Semi-Automated Colorimetry” in Methods for the Determination of Inorganic Substances in Environmental Samples, EPA/600/R-93/100. (Available at http://www.nemi.gov.)

USEPA. 1995a. EPA Method 524.2, Revision 4.1, “Measurement of Purgeable Organic Compounds in Water by Capillary Column Gas Chromatography/Mass Spectrometry” in Methods for the Determination of Organic Compounds in Drinking Water—Supplement III, EPA/600/R-95-131. (Available at http://www.nemi.gov.)

USEPA. 1995b. EPA Method 502.2, Revision 2.1, “Volatile Organic Compounds in Water by Purge and Trap Capillary Column Gas Chromatography with Photoionization and Electrolytic Conductivity Detectors in Series” in Methods for the Determination of Organic Compounds in Drinking Water—Supplement III, EPA/600/R-95-131. (Available at http://www.nemi.gov.)

USEPA. 1995c. EPA Method 551.1, Revision 1.0, “Determination of Chlorination Disinfection Byproducts, Chlorinated Solvents, and Halogenated Pesticides/Herbicides in Drinking Water by Liquid-Liquid Extraction and Gas Chromatography with Electron-Capture Detection” in Methods for the Determination of Organic Compounds in Drinking Water—Supplement III, EPA/600/R-95-131. (Available at http://www.nemi.gov.)

USEPA. 1995d. EPA Method 504.1, Revision 1.1, “1,2-Dibromoethane (EDB), 1,2-Dibromo-3-Chloro-Propane (DBCP), and 1,2,3-Trichloropropane (123TCP) in Water by Microextraction and Gas Chromatography” in Methods for the Determination of Organic Compounds in Drinking Water—Supplement III, EPA/600/R-95-131. (Available at http://www.nemi.gov.)

USEPA. 2007. Expedited Approval of Test Procedures for the Analysis of Contaminants Under the Safe Drinking Water Act; Analysis and Sampling Procedures. 72 FR 17902. April 10, 2007.

USEPA. 2008. Expedited Approval of Alternative Test Procedures for the Analysis of Contaminants Under the Safe Drinking Water Act; Analysis and Sampling Procedures. 73 FR 31616. June 3, 2008.

USEPA. 2009. EPA Method 524.3 Version 1.0. Measurement of Purgeable Organic Compounds in Water by Capillary Column Gas Chromatography/Mass Spectrometry, EPA 815-B-09-009. June 2009. (Available at http://epa.gov/safewater/methods/analyticalmethods_ogwdw.html.)

Wendelken, S., 2009a. Memo to the record describing basis for expedited approval of Mitchell Method M5271. May 29, 2009.

Wendelken, S., 2009b. Memo to the record describing basis for expedited approval of Mitchell Method M5331. May 29, 2009.

Wendelken, S., 2009c. Memo to the record describing ATP evaluation of Thermo Scientific/Orion Method AQ4500, Revision 1.0 and basis for expedited approval. May 29, 2009.

Wendelken, S., 2009d. Memo to the record describing basis for expedited approval of Systea Easy (1-Reagent) Nitrate Method. May 29, 2009.

Wendelken, S., 2009e. Memo to the record describing ATP evaluation of Method ME355.01 and basis for expedited approval. May 29, 2009.

Zaffiro, A.D, Prakash, B. and Zimmerman, M., 2009. EPA Method 524.3 Research Summary, Shaw Environmental, Cincinnati OH. June 2009.

List of Subjects in 40 CFR Part 141

Environmental protection, Chemicals, Indians—lands, Intergovernmental relations, Radiation protection, Reporting and recordkeeping requirements, Water supply.

Dated: July 9, 2009.
Michael H. Shapiro,
Acting Assistant Administrator, Office of Water.

For the reasons stated in the preamble, 40 CFR part 141 is amended as follows:

PART 141—NATIONAL PRIMARY DRINKING WATER REGULATIONS

1. The authority citation for part 141 continues to read as follows:

Authority: 42 U.S.C. 300f, 300g-1, 300j-4, and 300j-9.

2. Subpart C is amended by revising Appendix A to read as follows:

Appendix A to Subpart C of Part 141—Alternative Testing Methods Approved for Analyses Under the Safe Drinking Water Act

Only the editions stated in the following table are approved.

Alternative Testing Methods for Contaminants Listed at 40 CFR 141.21(f)(3)
Organism | Methodology | SM 21st edition ¹
Total Coliforms | Total Coliform Fermentation Technique | 9221 A, B
| Total Coliform Membrane Filter Technique | 9222 A, B, C
| Presence-Absence (P-A) Coliform Test | 9221 D
| ONPG-MUG Test | 9223

Alternative Testing Methods for Contaminants Listed at 40 CFR 141.23(k)(1)
Contaminant | Methodology | EPA method | SM 21st edition ¹ | SM online ³ | ASTM ⁴ | Other
Alkalinity | Titrimetric |  | 2320 B
Antimony | Atomic Absorption; Furnace |  | 3113 B
| Axially viewed inductively coupled plasma-atomic emission spectrometry (AVICP-AES) | 200.5, Revision 4.2 ²
Arsenic | Atomic Absorption; Furnace |  | 3113 B
| Hydride Atomic Absorption |  | 3114 B
| Axially viewed inductively coupled plasma-atomic emission spectrometry (AVICP-AES) | 200.5, Revision 4.2
Barium | Inductively Coupled Plasma |  | 3120 B
| Atomic Absorption; Direct |  | 3111 D
| Atomic Absorption; Furnace |  | 3113 B
| Axially viewed inductively coupled plasma-atomic emission spectrometry (AVICP-AES) | 200.5, Revision 4.2
Beryllium | Inductively Coupled Plasma |  | 3120 B
| Atomic Absorption; Furnace |  | 3113 B
| Axially viewed inductively coupled plasma-atomic emission spectrometry (AVICP-AES) | 200.5, Revision 4.2
Cadmium | Atomic Absorption; Furnace |  | 3113 B
| Axially viewed inductively coupled plasma-atomic emission spectrometry (AVICP-AES) | 200.5, Revision 4.2
Calcium | EDTA titrimetric |  | 3500-Ca B
| Atomic Absorption; Direct Aspiration |  | 3111 B
| Inductively Coupled Plasma |  | 3120 B
| Axially viewed inductively coupled plasma-atomic emission spectrometry (AVICP-AES) | 200.5, Revision 4.2
Chromium | Inductively Coupled Plasma |  | 3120 B
| Atomic Absorption; Furnace |  | 3113 B
| Axially viewed inductively coupled plasma-atomic emission spectrometry (AVICP-AES) | 200.5, Revision 4.2
Copper | Atomic Absorption; Furnace |  | 3113 B
| Atomic Absorption; Direct Aspiration |  | 3111 B
| Inductively Coupled Plasma |  | 3120 B
| Axially viewed inductively coupled plasma-atomic emission spectrometry (AVICP-AES) | 200.5, Revision 4.2
Conductivity | Conductance |  | 2510 B
Cyanide | Manual Distillation followed by |  |  |  | D2036-06 A
| Spectrophotometric, Amenable |  | 4500-CN− G |  | D2036-06 B
| Spectrophotometric Manual |  | 4500-CN− E |  | D2036-06 A
| Selective Electrode |  | 4500-CN− F
| Gas Chromatography/Mass Spectrometry Headspace |  |  |  |  | ME355.01 ⁷
Fluoride | Ion Chromatography |  | 4110 B
| Manual Distillation; Colorimetric SPADNS |  | 4500-F− B, D
| Manual Electrode |  | 4500-F− C |  | D1179-04 B
| Automated Alizarin |  | 4500-F− E
Lead | Atomic Absorption; Furnace |  | 3113 B
| Axially viewed inductively coupled plasma-atomic emission spectrometry (AVICP-AES) | 200.5, Revision 4.2
Magnesium | Atomic Absorption |  | 3111 B
| Inductively Coupled Plasma |  | 3120 B
| Complexation Titrimetric Methods |  | 3500-Mg B
| Axially viewed inductively coupled plasma-atomic emission spectrometry (AVICP-AES) | 200.5, Revision 4.2
Mercury | Manual, Cold Vapor |  | 3112 B
Nickel | Inductively Coupled Plasma |  | 3120 B
| Atomic Absorption; Direct |  | 3111 B
| Atomic Absorption; Furnace |  | 3113 B
| Axially viewed inductively coupled plasma-atomic emission spectrometry (AVICP-AES) | 200.5, Revision 4.2
Nitrate | Ion Chromatography |  | 4110 B
| Automated Cadmium Reduction |  | 4500-NO3− F
| Manual Cadmium Reduction |  | 4500-NO3− E
| Ion Selective Electrode |  | 4500-NO3− D
| Reduction/Colorimetric |  |  |  |  | Systea Easy (1-Reagent) ⁸
Nitrite | Ion Chromatography |  | 4110 B
| Automated Cadmium Reduction |  | 4500-NO3− F
| Manual Cadmium Reduction |  | 4500-NO3− E
| Spectrophotometric |  | 4500-NO2− B
| Reduction/Colorimetric |  |  |  |  | Systea Easy (1-Reagent) ⁸
Orthophosphate | Ion Chromatography |  | 4110 B
| Colorimetric, ascorbic acid, single reagent |  | 4500-P E | 4500-P E-99
| Colorimetric, Automated, Ascorbic Acid |  | 4500-P F | 4500-P F-99
pH | Electrometric |  | 4500-H+ B
Selenium | Hydride-Atomic Absorption |  | 3114 B
| Atomic Absorption; Furnace |  | 3113 B
| Axially viewed inductively coupled plasma-atomic emission spectrometry (AVICP-AES) | 200.5, Revision 4.2
Silica | Colorimetric |  |  |  | D859-05
| Molybdosilicate |  | 4500-SiO2 C
| Heteropoly blue |  | 4500-SiO2 D
| Automated for Molybdate-reactive Silica |  | 4500-SiO2 E
| Axially viewed inductively coupled plasma-atomic emission spectrometry (AVICP-AES) | 200.5, Revision 4.2
| Inductively Coupled Plasma |  | 3120 B
Sodium | Atomic Absorption; Direct Aspiration |  | 3111 B
| Axially viewed inductively coupled plasma-atomic emission spectrometry (AVICP-AES) | 200.5, Revision 4.2
Temperature | Thermometric |  | 2550

Alternative Testing Methods for Contaminants Listed at 40 CFR 141.24(e)(1)
Contaminant | Methodology | EPA method | SM 21st edition ¹ | SM online ³
Benzene | Purge & Trap/Gas Chromatography/Mass Spectrometry | 524.3 ⁹ |  |
Carbon tetrachloride | Purge & Trap/Gas Chromatography/Mass Spectrometry | 524.3 |  |
Chlorobenzene | Purge & Trap/Gas Chromatography/Mass Spectrometry | 524.3 |  |
1,2-Dichlorobenzene | Purge & Trap/Gas Chromatography/Mass Spectrometry | 524.3 |  |
1,4-Dichlorobenzene | Purge & Trap/Gas Chromatography/Mass Spectrometry | 524.3 |  |
1,2-Dichloroethane | Purge & Trap/Gas Chromatography/Mass Spectrometry | 524.3 |  |
cis-Dichloroethylene | Purge & Trap/Gas Chromatography/Mass Spectrometry | 524.3 |  |
Trans-Dichloroethylene | Purge & Trap/Gas Chromatography/Mass Spectrometry | 524.3 |  |
Dichloromethane | Purge & Trap/Gas Chromatography/Mass Spectrometry | 524.3 |  |
1,2-Dichloropropane | Purge & Trap/Gas Chromatography/Mass Spectrometry | 524.3 |  |
Ethylbenzene | Purge & Trap/Gas Chromatography/Mass Spectrometry | 524.3 |  |
Styrene | Purge & Trap/Gas Chromatography/Mass Spectrometry | 524.3 |  |
Tetrachloroethylene | Purge & Trap/Gas Chromatography/Mass Spectrometry | 524.3 |  |
1,1,1-Trichloroethane | Purge & Trap/Gas Chromatography/Mass Spectrometry | 524.3 |  |
Trichloroethylene | Purge & Trap/Gas Chromatography/Mass Spectrometry | 524.3 |  |
Toluene | Purge & Trap/Gas Chromatography/Mass Spectrometry | 524.3 |  |
1,2,4-Trichlorobenzene | Purge & Trap/Gas Chromatography/Mass Spectrometry | 524.3 |  |
1,1-Dichloroethylene | Purge & Trap/Gas Chromatography/Mass Spectrometry | 524.3 |  |
1,1,2-Trichlorethane | Purge & Trap/Gas Chromatography/Mass Spectrometry | 524.3 |  |
Vinyl chloride | Purge & Trap/Gas Chromatography/Mass Spectrometry | 524.3 |  |
Xylenes (total) | Purge & Trap/Gas Chromatography/Mass Spectrometry | 524.3 |  |
Carbofuran | High-performance liquid chromatography (HPLC) with post-column derivatization and fluorescence detection |  | 6610 B | 6610 B-04
Dibromochloropropane (DBCP) | Purge & Trap/Gas Chromatography/Mass Spectrometry | 524.3 |  |
Ethyl dibromide (EDB) | Purge & Trap/Gas Chromatography/Mass Spectrometry | 524.3 |  |
Oxamyl | High-performance liquid chromatography (HPLC) with post-column derivatization and fluorescence detection |  | 6610 B | 6610 B-04
Total Trihalomethanes | Purge & Trap/Gas Chromatography/Mass Spectrometry | 524.3 |  |

Alternative Testing Methods for Contaminants Listed at 40 CFR 141.25(a)
Contaminant | Methodology | SM 21st edition ¹ | ASTM ⁴
Naturally Occurring:
Gross alpha and beta | Evaporation | 7110 B |
Gross alpha | Coprecipitation | 7110 C |
Radium 226 | Radon emanation | 7500-Ra C |
| Radiochemical | 7500-Ra B |
Radium 228 | Radiochemical | 7500-Ra D |
Uranium | Radiochemical | 7500-U B |
| ICP-MS |  | D5673-05
| Alpha spectrometry | 7500-U C |
Man-Made:
Radioactive Cesium | Radiochemical | 7500-Cs B |
| Gamma Ray Spectrometry | 7120 |
Radioactive Iodine | Radiochemical | 7500-I B
|  | 7500-I C
|  | 7500-I D
| Gamma Ray Spectrometry | 7120 |
Radioactive Strontium 89, 90 | Radiochemical | 7500-Sr B |
Tritium | Liquid Scintillation | 7500-³H B |
Gamma Emitters | Gamma Ray Spectrometry | 7120
|  | 7500-Cs B
|  | 7500-I B |

Alternative Testing Methods for Contaminants Listed at 40 CFR 141.74(a)(1)
Organism | Methodology | SM 21st edition ¹ | Other
Total Coliform | Total Coliform Fermentation Technique | 9221 A, B, C |
| Total Coliform Membrane Filter Technique | 9222 A, B, C |
| ONPG-MUG Test | 9223 |
Fecal Coliforms | Fecal Coliform Procedure | 9221 E |
| Fecal Coliform Filter Procedure | 9222 D |
Heterotrophic bacteria | Pour Plate Method | 9215 B |
Turbidity | Nephelometric Method | 2130 B |
| Laser Nephelometry (on-line) |  | Mitchell M5271¹⁰
| LED Nephelometry (on-line) |  | Mitchell M5331 ¹¹
| LED Nephelometry (portable) |  | Orion AQ4500 ¹²

Alternative Testing Methods for Disinfectant Residuals Listed at 40 CFR 141.74(a)(2)
Residual | Methodology | SM 21st edition ¹
Free Chlorine | Amperometric Titration | 4500-Cl D
| DPD Ferrous Titrimetric | 4500-Cl F
| DPD Colorimetric | 4500-Cl G
| Syringaldazine (FACTS) | 4500-Cl H
Total Chlorine | Amperometric Titration | 4500-Cl D
| Amperometric Titration (Low level measurement) | 4500-Cl E
| DPD Ferrous Titrimetric | 4500-Cl F
| DPD Colorimetric | 4500-Cl G
| Iodometric Electrode | 4500-Cl I
Chlorine Dioxide | Amperometric Titration | 4500-ClO2 C
| Amperometric Titration | 4500-ClO2 E
Ozone | Indigo Method | 4500-O3 B

Alternative Testing Methods for Contaminants Listed at 40 CFR 141.131(b)(1)
Contaminant | Methodology | EPA method | SM 21st edition ¹
TTHM | P&T/GC/MS | 524.3 ⁹ |
HAA5 | LLE (diazomethane)/GC/ECD |  | 6251 B
Chlorite—daily monitoring as prescribed in 40 CFR 141.132(b)(2)(i)(A) | Amperometric Titration |  | 4500-ClO2 E

Alternative Testing Methods for Disinfectant Residuals Listed at 40 CFR 141.131(c)(1)
Residual | Methodology | SM 21st edition ¹
Free Chlorine | Amperometric Titration | 4500-Cl D
| DPD Ferrous Titrimetric | 4500-Cl F
| DPD Colorimetric | 4500-Cl G
| Syringaldazine (FACTS) | 4500-Cl H
Combined Chlorine | Amperometric Titration | 4500-Cl D
| DPD Ferrous Titrimetric | 4500-Cl F
| DPD Colorimetric | 4500-Cl G
Total Chlorine | Amperometric Titration | 4500-Cl D
| Low level Amperometric Titration | 4500-Cl E
| DPD Ferrous Titrimetric | 4500-Cl F
| DPD Colorimetric | 4500-Cl G
| Iodometric Electrode | 4500-Cl I
Chlorine Dioxide | Amperometric Method II | 4500-ClO2 E

Alternative Testing Methods for Disinfectant Residuals Listed at 40 CFR 141.131(c)(2), If Approved by the State
Residual | Methodology | Method
Free Chlorine | Test Strips | Method D99-003 ⁵

Alternative Testing Methods for Parameters Listed at 40 CFR 141.131(d)
Parameter | Methodology | SM 21st edition ¹
Total Organic Carbon (TOC) | High Temperature Combustion | 5310 B
| Persulfate-Ultraviolet or Heated Persulfate Oxidation | 5310 C
| Wet Oxidation | 5310 D
Specific Ultraviolet Absorbance (SUVA) | Calculation using DOC and UV254 data |
Dissolved Organic Carbon (DOC) | High Temperature Combustion | 5310 B
| Persulfate-Ultraviolet or Heated Persulfate Oxidation | 5310 C
| Wet Oxidation | 5310 D
Ultraviolet absorption at 254 nm (UV254) | Spectrophotometry | 5910 B

Alternative Testing Methods for Contaminants Listed at 40 CFR 141.402(c)(2)
Organism | Methodology | SM 20th edition ⁶ | SM 21st edition ¹ | SM online ³
E. coli | Colilert |  | 9223 B | 9223 B-97
| Colisure |  | 9223 B | 9223 B-97
| Colilert-18 | 9223 B | 9223 B | 9223 B-97
Enterococci | Multiple-Tube Technique |  |  | 9230 B-04

Alternative Testing Methods for Contaminants Listed at 40 CFR 141.704(b)
Organism | Methodology | SM 20th edition ⁶
E. coli | Membrane Filtration, Two Step | 9222 D/9222 G

Alternative Testing Methods for Contaminants Listed at 40 CFR 143.4(b)
Contaminant | Methodology | EPA method | ASTM ⁴ | SM 21st edition ¹ | SM online ³
Aluminum | Axially viewed inductively coupled plasma-atomic emission spectrometry (AVICP-AES) | 200.5, Revision 4.2 ² |  |  |
| Atomic Absorption; Direct |  |  | 3111 D |
| Atomic Absorption; Furnace |  |  | 3113 B |
| Inductively Coupled Plasma |  |  | 3120 B |
Chloride | Silver Nitrate Titration |  | D 512-04 B | 4500-Cl− B |
| Ion Chromatography |  |  | 4110 B |
| Potentiometric Titration |  |  | 4500-Cl− D |
Color | Visual Comparison |  |  | 2120 B |
Foaming Agents | Methylene Blue Active Substances (MBAS) |  |  | 5540 C |
Iron | Axially viewed inductively coupled plasma-atomic emission spectrometry (AVICP-AES) | 200.5, Revision 4.2 |  |  |
| Atomic Absorption; Direct |  |  | 3111 B |
| Atomic Absorption; Furnace |  |  | 3113 B |
| Inductively Coupled Plasma |  |  | 3120 B |
Manganese | Axially viewed inductively coupled plasma-atomic emission spectrometry (AVICP-AES) | 200.5, Revision 4.2 |  |  |
| Atomic Absorption; Direct |  |  | 3111 B |
| Atomic Absorption; Furnace |  |  | 3113 B |
| Inductively Coupled Plasma |  |  | 3120 B |
Odor | Threshold Odor Test |  |  | 2150 B |
Silver | Axially viewed inductively coupled plasma-atomic emission spectrometry (AVICP-AES) | 200.5, Revision 4.2 |  |  |
| Atomic Absorption; Direct |  |  | 3111 B |
| Atomic Absorption; Furnace |  |  | 3113 B |
| Inductively Coupled Plasma |  |  | 3120 B |
Sulfate | Ion Chromatography |  |  | 4110 B |
| Gravimetric with ignition of residue |  |  | 4500-SO4⁻² C | 4500-SO4⁻² C-97
| Gravimetric with drying of residue |  |  | 4500-SO4⁻² D | 4500-SO4⁻² D-97
| Turbidimetric method |  |  | 4500-SO4⁻² E | 4500-SO4⁻² E-97
| Automated methylthymol blue method |  |  | 4500-SO4⁻² F | 4500-SO4⁻² F-97
Total Dissolved Solids | Total Dissolved Solids Dried at 180 deg C |  |  | 2540 C |
Zinc | Axially viewed inductively coupled plasma-atomic emission spectrometry (AVICP-AES) | 200.5, Revision 4.2 |  |  |
| Atomic Absorption; Direct Aspiration |  |  | 3111 B |
| Inductively Coupled Plasma |  |  | 3120 B |

¹ Standard Methods for the Examination of Water and Wastewater, 21st edition (2005). Available from American Public Health Association, 800 I Street, NW., Washington, DC 20001-3710.

² EPA Method 200.5, Revision 4.2. “Determination of Trace Elements in Drinking Water by Axially Viewed Inductively Coupled Plasma-Atomic Emission Spectrometry.” 2003. EPA/600/R-06/115. (Available at http://www.epa.gov/nerlcwww/ordmeth.htm.)

³ Standard Methods Online are available at http://www.standardmethods.org. The year in which each method was approved by the Standard Methods Committee is designated by the last two digits in the method number. The methods listed are the only online versions that may be used.

⁴ Available from ASTM International, 100 Barr Harbor Drive, West Conshohocken, PA 19428-2959 or http://astm.org. The methods listed are the only alternative versions that may be used.

⁵ Method D99-003, Revision 3.0. “Free Chlorine Species (HOCl− and OCl−) by Test Strip,” November 21, 2003. Available from Industrial Test Systems, Inc., 1875 Langston St., Rock Hill, SC 29730.

⁶ Standard Methods for the Examination of Water and Wastewater, 20th edition (1998). Available from American Public Health Association, 800 I Street, NW., Washington, DC 20001-3710.

⁷ Method ME355.01, Revision 1.0. “Determination of Cyanide in Drinking Water by GC/MS Headspace,” May 26, 2009. Available at http://www.nemi.gov or from James Eaton, H & E Testing Laboratory, 221 State Street, Augusta, ME 04333. (207) 287-2727.

⁸ Systea Easy (1-Reagent). “Systea Easy (1-Reagent) Nitrate Method,” February 4, 2009. Available at http://www.nemi.gov or from Systea Scientific, LLC., 900 Jorie Blvd., Suite 35, Oak Brook, IL 60523.

⁹ EPA Method 524.3, Version 1.0. “Measurement of Purgeable Organic Compounds in Water by Capillary Column Gas Chromatography/Mass Spectrometry,” June 2009. EPA 815-B-09-009. Available at http://epa.gov/safewater/methods/analyticalmethods_ogwdw.html.

¹⁰ Mitchell Method M5271, Revision 1.1. “Determination of Turbidity by Laser Nephelometry,” March 5, 2009. Available at http://www.nemi.gov or from Leck Mitchell, PhD, PE, 656 Independence Valley Dr., Grand Junction, CO 81507.

¹¹ Mitchell Method M5331, Revision 1.1. “Determination of Turbidity by LED Nephelometry,” March 5, 2009. Available at http://www.nemi.gov or from Leck Mitchell, PhD, PE, 656 Independence Valley Dr., Grand Junction, CO 81507.

¹² Orion Method AQ4500, Revision 1.0. “Determination of Turbidity by LED Nephelometry,” May 8, 2009. Available at http://www.nemi.gov or from Thermo Scientific, 166 Cummings Center, Beverly, MA 01915, http://www.thermo.com.

[FR Doc. E9-18361 Filed 7-31-09; 8:45 am]

BILLING CODE S